DEPARTMENT OF COMMERCE

Bureau of Economic Analysis

Foreign Airline Operators' Revenues and Expenses in the United States—BE-36

ACTION: Extension of a currently approved collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before November 20, 2000.

ADDRESSES: Direct all written comments to Madeleine Clayton, DOC Forms Clearance Officer, Department of Commerce, Room 6086, 14th and Constitution Avenue, NW, Washington, DC 20230 or via the Internet at MClayton@doc.gov.

FOR FURTHER INFORMATION CONTACT: Requests for additional information or copies of the information collection instrument and instructions should be directed to: Michael Mann, Chief, Current Account Services Branch, Room 8018, Bureau of Economic Analysis, U.S. Department of Commerce, Washington, DC 20230; phone: (202) 606-9573; and fax: (202) 606-5314.

SUPPLEMENTARY INFORMATION:

I. Abstract

The Bureau of Economic Analysis is responsible for the computation and publication of the U.S. balance of payments accounts. The information collected in this survey is an integral part of the “transportation” portion of the U.S. balance of payments accounts. The balance of payments accounts, which are published quarterly in the Bureau's monthly publication, the Survey of Current Business, are one of the major statistical products of BEA. The accounts provide a statistical summary of U.S. international transactions. They are used by government and private organizations for national and international policy formulation, and analytical studies. Without the information collected in this survey, an integral component of the transportation account would be omitted. No other Government agency collects comprehensive annual data on foreign airline operators' revenues and expenses in the United States.

The survey requests information from foreign air carriers operating in the United States. Information is collected on an annual basis from foreign air carriers with total annual covered revenues and total annual covered expenses incurred in the U.S., each over $500,000. Foreign air carriers with total annual covered revenues and expenses below $500,000 are exempt from reporting.

II. Method of Collection

Mandatory reports are received from foreign air carriers who provide data regarding their revenues and expenses in the United States. Submission of the completed report form, or computer printouts in the format of the report form, are the most expedient and economical methods of reporting the information.

III. Data

OMB Number: 0608-0013.

Form Number: BE-36.

Type of Review: Regular Submission.

Affected Public: Businesses or Other For-Profit Organizations.

Estimated Number of Respondents: 72.

Estimated Time Per Response: 5 hours.

Estimated Total Annual Burden Hours: 360 hours.

Estimated Total Annual Cost: The estimated annual cost to the Federal Government is $18,000. The estimated annual cost to the public is $10,800 based on an estimated total annual burden hours and an estimated hourly cost of $30.

Respondent's Obligation: Mandatory.

Legal Authority: The International Investment and Trade in Services Act, 22 U.S.C. 3101-3108.

IV. Request for Comments

Comments are invited on: (a) Whether the continued collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 15, 2000.
Madeleine Clayton,
DOC Forms Clearance Officer, Office of Chief Information Officer.

[FR Doc. 00-24171 Filed 9-19-00; 8:45 a.m.]

BILLING CODE EA-3510-06